FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

AAB Global Logistics, LLC (NVO & OFF), 201 E. Dundee Road, #2, Palatine, IL 60074. Officers: Alexander Gibson, Managing Partner (Qualifying Individual), Robert E. Cleary, Manager. Application Type: Name Change.

Abco International Freight (USA) Inc. dba Abco Logistics (NVO), 9420 Telstar Avenue, #203, El Monte, CA 91731. Officers: Shermin Kong, Treasurer (Qualifying Individual), Donald J. Lucky, President. Application Type: QI Change.

Argosy Shipping (USA), LLC (OFF), 4747 Bellaire Blvd., Suite 275, Bellaire, TX 77401. Officer: Charles R. Griswold, President/Manager (Qualifying Individual). Application Type: Business Structure Change.

DW Logistics Solutions, Inc. (NVO & OFF) 133-33 Brookville Blvd., #101 Rosedale, NY 11422 Officer: Hong Guo, President/Director/Secretary/Treasurer (Qualifying Individual) Application Type: New NVO & OFF License.

Epona Logistics, LLC (OFF), 40276 Iron Liege Ct., Leesburg, VA 20176. Officer: Jean-Philippe P. Graff, Member (Qualifying Individual). Application Type: New OFF License.

Kim Line Inc. (NVO & OFF), 316 Westgate Drive, Edison, NJ 08820. Officers: Heena Latif, President/Director (Qualifying Individual), Nath Yerramilly, Secretary/Treasurer. Application Type: New NVO & OFF License.

Phison International, Inc. (NVO), 1550 E. Higgins Road, #115, Elk Grove Village, IL 60007. Officers: Soo T. Hur, President/Treasurer (Qualifying Individual), Hye N. Kim, Secretary. Application Type: New NVO Service.

Raymond Rodriguez dba RAR Logistics Company (NVO & OFF), 1653 253rd Street, Harbor City, CA 90710. Officer: Raymond Rodriguez, Sole Proprietor (Qualifying Individual). Application Type: New NVO & OFF License.

Transco International Logistics LLC (OFF), 138-04 175th Street, Jamaica, NY 11434. Officer: Demba S. Ba, Owner/Member Manager (Qualifying Individual). Application Type: Name Change.

Versant Supply Chain, Inc. (NVO & OFF), 4105 S. Mendenhall, Memphis, TN 38115. Officers: Kim Verna, Executive Vice President of Air & Ocean (Qualifying Individual), Jeff Bullard, CEO. Application Type: Name Change.

Dated: November 10, 2011.
Karen V. Gregory,
Secretary.

[FR Doc. 2011-29657 Filed 11-15-11; 8:45 am]

BILLING CODE 6730-01-P